ELECTION ASSISTANCE COMMISSION

Sunshine Act Meetings

AGENCY: U.S. Election Assistance Commission.

ACTION: Sunshine Act notice; notice of public meeting (roundtable) agenda.

SUMMARY: Public Roundtable: U.S. Election Assistance Commission Language Access Roundtable.

DATES: Thursday, February 17, 2022, 1:00 p.m.-3:00 p.m. Eastern.

ADDRESSES: Virtual via Zoom.

The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct a virtual meeting to discuss topics and resources available to election officials as they serve language minority voters.

Agenda: Commissioners will hold a public meeting (roundtable) to moderate panel discussions on the following topics: (1) The importance of accurate, legal, and culturally competent translation for limited-English proficiency voters and best practices for implementing new language programs, including serving voters with disabilities, (2) How jurisdictions have implemented effective language assistance plans to better serve voters in their communities, (3) Highlighting innovative and practical ways jurisdictions have addressed languages challenges, and (4) Design elements, budget impacts and helpful tips to stretch funds for the greatest results.

Background: New Section 203 determinations were made in December 2021. The EAC will host a virtual roundtable to highlight a spectrum of issues that state and local election officials will need to consider when adopting new language requirements or recently losing section language requirements. Commissioners and attendees will hear from expert panelists who will share resources and best practices related to serving language minority groups.

The full agenda will be posted in advance on the EAC website: https://www.eac.gov/events/2022/02/17/language-access-roundtable.

Status: This meeting will be open to the public.

Kevin Rayburn,
General Counsel, U.S. Election Assistance Commission.

[FR Doc. 2022-02705 Filed 2-4-22; 4:15 pm]

BILLING CODE P